NATIONAL SCIENCE FOUNDATION

Advisory Committee for International Science and Engineering; Notice of Meeting

In accordance with Federal Advisory Committee Act (Pub. L. 92-463, as amended), the National Science Foundation announces the following meeting:

Name: Advisory Committee for International Science and Engineering (25104).

Date/Time: December 4, 2006; 8:30 a.m. to 5 p.m.

Place: National Science Foundation, 4201 Wilson Boulevard, Room 1235, Arlington, VA.

Type of Meeting: Open.

Contact Person: Eduardo Feller, National Science Foundation, 4201 Wilson Boulevard, (suite 935), Arlington, VA 22230 (703) 292-8100.

If you are attending the meeting and need access to the NSF, please contact the individual listed above so your name may be added to the building access list.

Purpose of Meeting: To provide advice on the programs of the Office of International Science and Engineering.

Agenda: Presentation of new Committee Members.

Update on work of the Office.

Briefings on Current International Initiatives.

Discussion of International Program Initiatives.

Dated: November 7, 2006.
Susanne Bolton,
Committee Management Officer.

[FR Doc. 06-9181 Filed 11-9-06; 8:45 am]

BILLING CODE 7555-01-M